DEPARTMENT OF THE INTERIOR

Bureau of Land Management

[NM-02-1020-PG]

Notice of Public Meeting, New Mexico Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) New Mexico Resource Advisory Council (RAC), will meet as indicated below.

DATES: The meeting will be held on October 28-30, 2002, at the Philmont Scout Ranch, NM. Orientation for new members will take place on October 28 beginning at 8 a.m. An optional Field Trip is planned for the afternoon of the 28th to CS Ranch and a tour of the Ponil Fire. The regularly scheduled meeting will take place on October 29-30 beginning at 8 a.m. The meeting will adjourn at approximately 5 p.m. both days. The three established RAC subcommittees will meet in the late afternoon or evening on Tuesday, October 29. The public comment period will begin at 10 a.m. on Wednesday, October 30, and end at 12 noon.

FOR FURTHER INFORMATION CONTACT: Theresa Herrera, RAC Coordinator, New Mexico State Office, Office of External Affairs, Bureau of Land Management, P.O. Box 27115, Santa Fe, NM 87502-0115, (505) 438-7517.

SUPPLEMENTARY INFORMATION: The 15-member Council advises the Secretary of the Interior, through the Bureau of Land Management, on a variety of planning and management issues associated with public land management in New Mexico. At this meeting, topics we plan to discuss include:

Orientation for new members

Fire prevention on public lands and watershed conditions

BLM strategy for ensuring public land management is consistent with current science and public land health standards

BLM's policy and regulations on grass reserves

Otero Mesa lessons

Future collaboration for upcoming environmental impact statements and Resource Management Plans

All meetings are open to the public. The public may present written comments to the Council. Each formal Council meeting will also have time allocated for hearing public comments. Depending on the number of persons wishing to comment and time available, the time for individual oral comments may be limited. New Mexico RAC meetings are coordinated with the representative of the Governor of the State of New Mexico, the Office of the Lieutenant Governor.

Dated: September 11, 2002.
Janice L. Gamby,
Acting State Director.

[FR Doc. 02-23775 Filed 9-18-02; 8:45 am]

BILLING CODE 4310-FB-M